NUCLEAR WASTE TECHNICAL REVIEW BOARD

Board Meeting

June 13, 2018—The U.S. Nuclear Waste Technical Review Board will meet in Idaho Falls, Idaho, to discuss technical issues that need to be addressed in preparing for the eventual transport of spent nuclear fuel and high-level radioactive waste.

Pursuant to its authority under section 5051 of Public Law 100-203, Nuclear Waste Policy Amendments Act (NWPAA) of 1987, the U.S. Nuclear Waste Technical Review Board will hold a public meeting in Idaho Falls, Idaho, on Wednesday, June 13, 2018, to review technical issues that need to be addressed before the Department of Energy (DOE) begins a nationwide effort to transport spent nuclear fuel (SNF) or high-level radioactive waste (HLW).

Currently, commercial SNF is stored at nuclear power stations across the country, and HLW and DOE SNF are stored at four federal facilities. The Nuclear Waste Policy Act, as amended, calls for this waste to be moved eventually to a permanent geologic repository for disposal. Proposals for temporary interim storage of some of the SNF also have been discussed. Before the waste is moved from where it is now to another location, it will be necessary for DOE to complete the development of an integrated waste management program to support transporting the waste. At its meeting, the Board will consider technical issues that need to be addressed in preparing for such a transportation effort.

The Board meeting will be held at the Hilton Garden Inn, 700 Lindsay Boulevard, Idaho Falls, Idaho 83402. The hotel telephone number is 208-522-9500, and the fax number is 208-522-9501.

The meeting will begin at 8:00 a.m. on Wednesday, June 13, 2018, and is scheduled to adjourn at 6:00 p.m. The Board will receive presentations from representatives of DOE who are developing the waste management system and the system analysis tools that will help with decision-making processes. The Board will also hear from commercial nuclear industry representatives, including a utility in Switzerland, about the experience of the commercial industry in preparing for SNF and HLW transportation. Other speakers will provide observations from experience with the former Office of Civilian Radioactive Waste Management and discuss the perspectives of the Nuclear Regulatory Commission and stakeholder groups. A detailed meeting agenda will be available on the Board's website at www.nwtrb.gov approximately one week before the meeting.

The meeting will be open to the public, and opportunities for public comment will be provided before the lunch break and again at the end of the meeting. Those wanting to speak are encouraged to sign the “Public Comment Register” at the check-in table. Depending on the number of people who sign up to speak, it may be necessary to set a time limit on individual remarks. However, written comments of any length may be submitted, and all comments received in writing will be included in the record of the meeting, which will be posted on the Board's website after the meeting. The meeting will be webcast, and the link to the webcast will be available on the Board's website (www.nwtrb.gov) a few days before the meeting. An archived version of the webcast will be available on the Board's website following the meeting. The transcript of the meeting will be available on the Board's website no later than August 14, 2018.

The Board was established in the Nuclear Waste Policy Amendments Act of 1987 as an independent federal agency in the Executive Branch to evaluate the technical and scientific validity of DOE activities related to the management and disposal of SNF and HLW and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Daniel Ogg: ogg@nwtrb.gov or Karyn Severson: severson@nwtrb.gov. For information on logistics, or to request copies of the meeting agenda or transcript, contact Davonya Barnes: barnes@nwtrb.gov. All three may be reached by mail at 2300 Clarendon Boulevard, Suite 1300, Arlington, VA 22201-3367; by telephone at 703-235-4473; or by fax at 703-235-4495.

Dated: April 26, 2018.
Nigel Mote,
Executive Director, U.S. Nuclear Waste Technical Review Board.

[FR Doc. 2018-09160 Filed 4-30-18; 8:45 am]

BILLING CODE P